POSTAL SERVICE

Notice of Intent To Prepare a Supplement to the Next Generation Delivery Vehicles Acquisitions Final Environmental Impact Statement

AGENCY: Postal Service.

ACTION: Notice.

SUMMARY: On January 7, 2022, the Postal Service published a Final Environmental Impact Statement (FEIS) pursuant to the requirements of the National Environmental Policy Act of 1969 (NEPA), its implementing regulations, and the President's Council on Environmental Quality (CEQ) regulations for its Next Generation Delivery Vehicle (NGDV) Acquisitions. On February 23, 2022, the Postal Service issued its Record of Decision, determining that it would implement the NGDV FEIS's Preferred Alternative to purchase and deploy over a ten-year period 50,000 to 165,000 purpose-built, right-hand drive NGDV consisting of a mix of internal combustion engine (ICE) and battery electric vehicle (BEV) powertrains, with at least ten percent BEVs. On March 24, 2022, in accordance with that decision, the Postal Service placed an order for 50,000 NGDV, of which 10,019 are BEV. The Postal Service now announces its intention to prepare a Supplemental Environmental Impact Statement (SEIS) to address the three considerations that have developed since the NGDV FEIS and Record of Decision.

DATES: Comments should be received no later than July 25, 2022. The Postal Service will also publish a Notice of Availability to announce the availability of the Draft SEIS and solicit comments on the Draft SEIS during a second 45-day public comment period.

ADDRESSES: Interested parties may direct comments and questions to: Mr. Davon Collins, Environmental Counsel, United States Postal Service, 475 L'Enfant Plaza SW, Office 6606, Washington, DC 20260-6201, or at NEPA@usps.gov. Note that comments sent by mail may be subject to delay due to federal security screening. Faxed comments are not accepted. All submitted comments and attachments are part of the public record and subject to disclosure. Do not enclose any material in your comments that you consider to be confidential or inappropriate for public disclosure.

The Postal Service will also conduct a virtual public hearing on Tuesday, July 19, 2022, at 7 p.m. (ET). Registration information will be made available 15 days prior to the hearing date at the following website: http://uspsngdveis.com/.

SUPPLEMENTARY INFORMATION: The three considerations that have developed since the NGDV FEIS and Record of Decision are as follows:

First, in response to potential delivery network refinements and route optimization efforts being considered for the postal delivery network, the SEIS would analyze the potential impacts to the delivery fleet from such changes, including whether the changed route length and characteristics warrant an increase in the minimum number of BEV NGDVs to be procured under the Proposed Action set forth in the FEIS.

Second, in response to its need to accelerate the replacement of aged and high-maintenance Long Life Vehicles (LLV) and Flexible Fuel Vehicles (FFV) in furtherance of its Universal Service Obligation, the Postal Service intends to analyze the potential impacts of replacing the remainder of its LLV/FFV fleet with a combination of NGDV and Commercial Off-the-Shelf (COTS) vehicles. The Postal Service anticipates that the SEIS Proposed Action will propose acquiring up to 37,000 left-hand drive COTS with ICE and BEV powertrains, which would be deployed on routes with fewer than 21 curb-line delivery points.

Third, as the NGDV FEIS only assessed the environmental impacts from a replacement of the Postal Service's LLV and FFVs, the SEIS would also assess the potential impacts from replacing other aged and high-maintenance non-LLV/FFV postal delivery vehicles. This analysis would include consideration of the acquisition of: (1) up to 60,000 right-hand drive non-NGDV purpose-built vehicles with ICE and BEV powertrains to place on routes currently utilizing personally owned vehicles (POVs), for rural route growth, and for routes that require a vehicle less than 111 inches tall; and (2) the acquisition of up to 26,000 left-hand drive COTS with ICE and BEV powertrains to replace existing COTS delivery vehicles that will reach the end of their service lives within the next ten years.

The Postal Service actively seeks input from the public, interested persons, organizations, and Federal, state, and regional agencies to identify environmental concerns and potential alternatives to be addressed in the SEIS and will accept public comments for a 45-day period, concluding on July 25, 2022. With respect to recommendations regarding potential alternatives, the Postal Service requests that comments be as specific as possible regarding vehicle type, model and manufacturer so that the Postal Service might fully consider the alternative in terms of pricing, operational capabilities, and market availability.

References

1. U.S. Postal Service, Notice of Intent to Prepare an Environmental Impact Statement for Purchase of Next Generation Delivery Vehicles, 86 FR 12715 (Mar. 4, 2021).

2. U.S. Postal Service, Notice of Availability of Draft Environmental Impact Statement for Purchase of Next Generation Delivery Vehicle, 86 FR 47662 (Aug. 26, 2021).

3. U.S. Environmental Protection Agency, Notice of Availability of EIS No. 20210129, Draft, USPS, DC, Next Generation Delivery Vehicle Acquisitions, 86 FR 49531 (Sept. 3, 2021).

4. U.S. Environmental Protection Agency, Notice of Availability of EIS No. 20220001, Final, USPS, DC, Next Generation Delivery Vehicle Acquisitions, 87 FR 964 (Jan. 7, 2022).

5. U.S. Postal Service, Notice of Availability of Final Environmental Impact Statement for Purchase of Next Generation Delivery Vehicles, 87 FR 994 (Jan. 7, 2022).

6. U.S. Postal Service, Notice of Availability of Record of Decision, 87 FR 14588 (Mar. 15, 2022).

Joshua J. Hofer,
Attorney, Ethics and Legal Compliance.

[FR Doc. 2022-12581 Filed 6-7-22; 4:15 pm]

BILLING CODE 7710-12-P